FEDERAL COMMUNICATIONS COMMISSION

[DA 19-782]

Consumer Advisory Committee; Meeting

AGENCY: Federal Communications Commission.

ACTION: Notice.

SUMMARY: The Commission announces the next meeting date, time, and agenda of its Consumer Advisory Committee (hereinafter the “Committee”).

DATES: September 16, 2019, 9:00 a.m. to 1:00 p.m.

ADDRESSES: Federal Communications Commission, 445 12th Street SW, Commission Meeting Room TW-C305, Washington, DC 20554.

FOR FURTHER INFORMATION CONTACT: Scott Marshall, Designated Federal Officer of the Committee, (202) 418-2809 (voice or Relay), email: Scott.Marshall@fcc.gov; or Christina Clearwater, Deputy Designated Federal Officer of the Committee, (202) 418-1893 (voice), email: Christina.Clearwater@fcc.gov.

SUPPLEMENTARY INFORMATION: This is a summary of the Commission's document (DA 19-782), released August 16, 2019, announcing the Agenda, Date, and Time of the Committee's next meeting.

Proposed Agenda: At its September 16, 2019, meeting, the Committee is expected to consider a recommendation presented by its Critical Calls List/Robocall Blocking Working Group relative to the Third Further Notice of Proposed Rulemaking in Advanced Methods to Target and Eliminate Unlawful Robocalls; Call Authentication Trust Anchor, CG Docket No. 17-59, WC Docket No. 17-97, published at 84 FR 29478, June 24, 2019. The Committee may also receive briefings from Commission staff or outside speakers on issues of interest to the Committee and may discuss topics including, but not limited to, consumer protection and education, consumer participation in the Commission's rulemaking process, and the impact of new and emerging communication technologies.

A limited amount of time will be available for comments from the public. If time permits, the public may ask questions of presenters via the email address livequestions@fcc.gov or via Twitter using the hashtag #fcclive. The public may also follow the meeting on Twitter @fcc or via the Commission's Facebook page at www.facebook.com/fcc. Alternatively, members of the public may send written comments to: Scott Marshall, Designated Federal Officer of the Committee, or Christina Clearwater, Deputy Designated Federal Officer of the Committee, at the addresses above.

This meeting is open to members of the general public. The Commission will accommodate as many participants as possible; however, admission will be limited to seating availability. The Commission will also provide audio and/or video coverage of the meeting over the internet from the Commission's web page at: www.fcc.gov/live. Oral statements at the meeting by parties or entities not represented on the Committee will be permitted to the extent time permits, at the discretion of the Committee Chair and the Designated Federal Officer. Members of the public may submit comments to the Committee in the Commission's Electronic Comment Filing System, ECFS, at: www.fcc.gov/ecfs/.

Open captioning will be provided for this event. Other reasonable accommodations for people with disabilities are available upon request. Requests for such accommodations should be submitted via email to: fcc504@fcc.gov or by calling the Consumer and Governmental Affairs Bureau at (202) 418-0530 (voice), (202) 418-0432 (TTY). Such requests should include a detailed description of the accommodation needed.

In addition, please include a way for the Commission to contact the requester if more information is needed to fill the request. Please allow at least five days' advance notice; last minute requests will be accepted but may not be possible to accommodate.

Federal Communications Commission.
Gregory Haledjian,
Legal Advisor, Consumer and Governmental Affairs Bureau.

[FR Doc. 2019-18315 Filed 8-23-19; 8:45 am]

BILLING CODE 6712-01-P